COMMISSION ON CIVIL RIGHTS

Notice of Public Meeting of the Oklahoma Advisory Committee for a Meeting To Discuss and Vote Upon a Project Proposal Regarding the School to Prison Pipeline in Oklahoma

AGENCY: U.S. Commission on Civil Rights.

ACTION: Notice of meeting.

SUMMARY: Notice is hereby given, pursuant to the provisions of the rules and regulations of the U.S. Commission on Civil Rights (Commission) and the Federal Advisory Committee Act that the Oklahoma Advisory Committee (Committee) will hold a meeting on Friday, March 27, 2015, at 3 p.m. CST for the purpose of discussing and voting on a project proposal regarding the school to prison pipeline of Oklahoma girls, students of color, and students with disabilities.

Members of the public can listen to the discussion. This meeting is available to the public through the following toll-free call-in number: 888-466-4462, conference ID: 7610695. Any interested member of the public may call this number and listen to the meeting. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office by April 27, 2015. Written comments may be mailed to the Midwestern Regional Office, U.S. Commission on Civil Rights, 55 W. Monroe St., Suite 410, Chicago, IL 60615. They may also be faxed to the Commission at (312) 353-8324, or emailed to Administrative Assistant, Carolyn Allen at callen@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Oklahoma Advisory Committee link. Persons interested in the work of this Committee are directed to the Commission's Web site, http://www.usccr.gov, or may contact the Midwestern Regional Office at the above email or street address.

Agenda

Welcome and Introductions

3 p.m. to 3:05 p.m.

Vicki Limas, Chair

Discussion of Proposal on School to Prison Pipeline in Oklahoma

3:05 p.m. to 3:35 p.m.

Oklahoma Advisory Committee

Planning Next Steps

3:35 p.m. to 4 p.m.

Adjournment

4 p.m.

Date: The meeting will be held on Friday, March 27, 2015, at 3 p.m.

Public Call Information:

Dial: 888-466-4462

Conference ID: 7610695

Dated March 3, 2015.
David Mussatt,
Chief, Regional Programs Unit.

[FR Doc. 2015-05275 Filed 3-6-15; 8:45 am]

BILLING CODE 6335-01-P